AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning:

(a) The accuracy of the burden estimates; (b) ways to enhance the quality, utility, and clarity of the information collected; and (c) ways to minimize the burden of the collection of information on the respondents, including the use of automated collection techniques, or other forms of information technology.

DATES: Submit comments on or before October 3, 2016.

FOR FURTHER INFORMATION CONTACT: Sylvia Joyner, Bureau for Management, Office of Management Services, Information and Records Division, U.S. Agency for International Development, Room 2.07C, RRB, Washington, DC 20523, (202) 712-5007 or via email sjoyner@usaid.gov.

Comments: Send comments via email to jltaylor@usaid.gov, U.S. Agency for International Development, Office of Acquisition and Assistance, 1300 Pennsylvania Avenue NW., SA-44 Room 867-C, Washington, DC 20523, 202-567-4673.

SUPPLEMENTARY INFORMATION:

OMB No:

Form No.: AID 309-1.

Title: CONTRACT WITH AN INDIVIDUAL FOR PERSONAL SERVICES.

Type of Review: A Revised Information Collection.

Purpose: United States Agency for International Development must collect information for reporting purposes to Congress and Office of Acquisition and Assistance Contract Administration. This collection is to collect personal information on applicants for USAID personal services contracts and is used to award a personal services contract with required signatures.

Annual Reporting Burden:

U.S. Respondents: 550.

Total Annual U.S. Responses: 550.

Total Annual Hours Requested: 137.50 hours.

Dated: July 18, 2016.
Lynn Winston,
Chief, Information and Records Division, US Agency for International Development.

[FR Doc. 2016-17375 Filed 8-2-16; 8:45 am]

BILLING CODE M